DEPARTMENT OF ENERGY

Federal Energy Regulatory Commission

Combined Notice of Filings #1

Take notice that the Commission received the following exempt wholesale generator filings:

Docket Number: EG11-124-000.

Applicants: Minco Wind II, LLC.

Description: Notice of Self-Certification of Exempt Wholesale Generator Status of Minco Wind II, LLC.

Filed Date: 08/29/2011.

Accession Number: 20110829-5119.

Comment Date: 5 p.m. Eastern Time on Monday, September 19, 2011.

Take notice that the Commission received the following electric rate filings:

Docket Number: ER11-2895-000; ER11-2895-001.

Applicants: Duke Energy Carolinas, LLC.

Description: Duke Energy Carolinas, LLC submits response to deficient letter.

Filed Date: 08/22/2011.

Accession Number: 20110823-0008.

Comment Date: 5 p.m. Eastern Time on Monday, September 12, 2011.

Docket Number: ER11-4385-000.

Applicants: PJM Interconnection, L.L.C.

Description: PJM Interconnection, L.L.C. submits tariff filing per 35.13(a)(2)(iii: Queue Position No. W1-032—Original Service Agreement No. 3040 to be effective 7/28/2011.

Filed Date: 08/29/2011.

Accession Number: 20110829-5066.

Comment Date: 5 p.m. Eastern Time on Monday, September 19, 2011.

Docket Number: ER11-4386-000.

Applicants: AmericaWide Energy, LLC.

Description: AmericaWide Energy, LLC submits tariff filing per 35.12: Market-Based Rate Application to be effective 11/1/2011.

Filed Date: 08/29/2011.

Accession Number: 20110829-5067.

Comment Date: 5 p.m. Eastern Time on Monday, September 19, 2011.

Docket Number: ER11-4387-000.

Applicants: PJM Interconnection, L.L.C.

Description: PJM Interconnection, L.L.C. submits tariff filing per 35.13(a)(2)(iii: PJM Queue Position W2-075—Original Service Agreement No. 3039 to be effective 7/28/2011.

Filed Date: 08/29/2011.

Accession Number: 20110829-5068.

Comment Date: 5 p.m. Eastern Time on Monday, September 19, 2011.

Docket Number: ER11-4388-000.

Applicants: Midwest Independent Transmission System Operator, Inc.

Description: Midwest Independent Transmission System Operator, Inc. submits tariff filing per 35.13(a)(2)(iii: ITC Midwest Certificates of Concurrence to be effective 10/4/2011.

Filed Date: 08/29/2011.

Accession Number: 20110829-5090.

Comment Date: 5 p.m. Eastern Time on Monday, September 19, 2011.

Docket Number: ER11-4389-000.

Applicants: Midwest Independent Transmission System Operator, Inc.

Description: Midwest Independent Transmission System Operator, Inc. submits tariff filing per 35.13(a)(2)(iii: 08-29-11 Attachment X_Ins. Req. to be effective 10/29/2011.

Filed Date: 08/29/2011.

Accession Number: 20110829-5101.

Comment Date: 5 p.m. Eastern Time on Monday, September 19, 2011.

Docket Number: ER11-4390-000.

Applicants: Southwest Power Pool, Inc.

Description: Southwest Power Pool, Inc. submits tariff filing per 35.13(a)(2)(iii: 2234 Osage Wind/PSO Affected Systems' Facilities Construction Agreement to be effective 7/28/2011.

Filed Date: 08/29/2011.

Accession Number: 20110829-5113.

Comment Date: 5 p.m. Eastern Time on Monday, September 19, 2011.

Docket Number: ER11-4391-000.

Applicants: PJM Interconnection, L.L.C.

Description: PJM Interconnection, L.L.C. submits tariff filing per 35.13(a)(2)(iii: Queue Position No. V2-030/V4-018/W3-047—Original Service Agreement No. 3041 to be effective 7/29/2011.

Filed Date: 08/29/2011.

Accession Number: 20110829-5120.

Comment Date: 5 p.m. Eastern Time on Monday, September 19, 2011.

Docket Number: ER11-4392-000.

Applicants: PJM Interconnection, L.L.C.

Description: PJM Interconnection, L.L.C. submits tariff filing per 35.15: Notice of Cancellation of Service Agreement No. 2795 in Docket No. ER11-3196-000 to be effective 7/29/2011.

Filed Date: 08/29/2011.

Accession Number: 20110829-5137.

Comment Date: 5 p.m. Eastern Time on Monday, September 19, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 30, 2011.
Nathaniel J. Davis, Sr.,
Deputy Secretary.

[FR Doc. 2011-22807 Filed 9-6-11; 8:45 am]

BILLING CODE 6717-01-P